DEPARTMENT OF VETERANS AFFAIRS

[OMB Control No. 2900-New (SAR)]

SAR Application; Correction

AGENCY: Veterans Benefits Administration, Department of Veterans Affairs.

ACTION: Notice; correction.

SUMMARY: The Department of Veterans Affairs (VA) published a collection of information notice in the Federal Register on June 12, 2008, that contained an error. The notice incorrectly stated that the “Veterans Health Administration” had submitted a collection of information to the Office of Management and Budget (OMB) for review and comment. This document corrects the error to reflect that the “Veterans Benefits Administration” submitted the collection of information to OMB for review and comment.

FOR FURTHER INFORMATION CONTACT: Denise McLamb, Records Management Service (005R1B), Department of Veterans Affairs, 810 Vermont Avenue, NW., Washington, DC 20420, at 202-461-7485.

Correction

In FR Doc. E8-13245, published on June 12, 2008, at 73 FR 33497, make the following correction. On page 33497, in the third column, at the Agency heading remove “Veterans Health Administration” and add, in its place, “Veterans Benefits Administration”, and in the Summary remove “Veterans Health Administration (VHA)” and add, in its place, “Veterans Benefits Administration (VBA)”.

Dated: June 17, 2008.
William F. Russo,
Director of Regulations Management.

[FR Doc. E8-14089 Filed 6-20-08; 8:45 am]

BILLING CODE 8320-01-P